FEDERAL RETIREMENT THRIFT INVESTMENT BOARD

Sunshine Act Meeting Notice

TIME AND DATE: 10:00 a.m. (Eastern Time), November 27, 2012.

PLACE: 10th Floor Board Meeting Room, 77 K Street NE., Washington, DC 20002.

STATUS: All parts will be open to the public.

Matters To Be Considered:

1. Approval of the Minutes of the October 22, 2012 Board Member Meeting

2. Thrift Savings Plan Activity Report by the Acting Executive Director

a. Monthly Participant Activity Report

b. Quarterly Investment Performance Report

c. Legislative Report

3. 2012/2013 Board Meeting Calendar

Contact Person for More Information:

Kimberly Weaver, Director, Office of External Affairs, (202) 942-1640.

Dated: November 19, 2012.
Megan Grumbine,
Acting Secretary, Federal Retirement Thrift Investment Board.

[FR Doc. 2012-28433 Filed 11-19-12; 4:15 pm]

BILLING CODE 6760-01-P